DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Behavioral Health Information Technologies Survey—NEW

The Substance Abuse and Mental Health Services Administration (SAMHSA) Center for Substance Abuse Treatment (CSAT) and Center for Behavioral Health Statistics and Quality (CBHSQ) are proposing a survey to assess health information technology (HIT) adoption among SAMHSA grantees. As part of its Strategic Initiative to advance the use of health information technologies to support integrated behavioral health care, SAMHSA has been working to develop a survey instrument that will examine the status of and plans for HIT adoption by behavioral health service providers who are implementing SAMHSA grant programs. The selected programs are funded by the by the Center for Mental Health Services (CMHS), the Center for Substance Abuse Prevention (CSAP), and (CSAT).

This project seeks to acquire baseline data necessary to inform the Agency's strategic initiative that focuses on fostering the adoption of HIT in community behavioral health services. The survey of SAMHSA grantees regarding their access to and use of health information technology will provide valuable information that will inform the behavioral HIT literature.

Approval of this data collection by the Office of Management and Budget (OMB) will allow SAMHSA to identify the current status of HIT adoption and use among a diverse group of grantees. Data from the survey will allow SAMHSA to enhance the HIT-related programmatic activities among its grantees by providing data on how HIT facilitates the implementation of different types of SAMHSA grants, thereby fostering the appropriate adoption of HIT within SAMSHA-funded programs.

The survey will collect data once, providing a snapshot view of the current state of HIT adoption. The proposed participant pool is comprised of SAMHSA grantee program leadership who are willing to provide the assistance needed to ensure a high rate of response. Awardees from nine different SAMHSA programs drawn from CMHS, CSAT, and CSAP comprise the pool of survey participants.

The survey mode for data collection will be web-based with embedded skip logic for respondents to avoid questions that are not applicable to them. The minimum amount of time for a respondent to complete the survey is 20 minutes, with respondents who do not skip items taking a maximum of 30 minutes for completion. The total estimated respondent burden is 149.6 hours.

The following table summarizes the estimated response burden.

Type of grantee or respondent | Number of respondents | Number of responses annually per respondent | Total responses | Average hours per response | Total burden hours
Screening, Brief Intervention, and Referral to Treatment (SBIRT) | 18 | 1 | 18 | .4 | 7.2
Targeted Capacity Expansion-Targeted Assisted Care | 17 | 1 | 17 | .4 | 6.8
Offender Re-entry Program | 13 | 1 | 13 | .4 | 5.2
Primary Behavioral Health Care Integration (PBHCI) | 89 | 1 | 89 | .4 | 35.6
National Child Traumatic Stress Initiative (NCTSI) | 56 | 1 | 56 | .4 | 22.4
Suicide Lifeline Crisis Center Follow-up | 12 | 1 | 12 | .4 | 4.8
Garret Lee Smith Youth Suicide Prevention Program | 56 | 1 | 56 | .4 | 22.4
Minority AIDS Initiative | 113 | 1 | 113 | .4 | 45.2
Total | 374 |  | 374 |  | 149.6

Written comments and recommendations concerning the proposed information collection should be sent by June 17, 2015 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2015-11892 Filed 5-15-15; 8:45 am]

BILLING CODE 4162-20-P